Title 3—

The President

Proclamation 9257 of April 17, 2015

National Crime Victims' Rights Week, 2015

By the President of the United States of America

A Proclamation

In recent decades, our Nation has made tremendous progress in reducing the crime rate and building safer communities for all Americans. Yet tragically, millions of people continue to be victimized by crime each year—it happens every day, and it can happen to anyone. When one person's life is shaken by crime, it tears at the fabric of our Nation and erodes the values we cherish. That is why we all must help rebuild the promise of justice and fairness for those whose lives are forever changed by crime. This week, as we stand with these men, women, and children, we renew our commitment to supporting them in their time of need, and we reaffirm the basic human right of all people to live free from violence.

All crime victims have fundamental rights; however, many underserved populations face significant barriers to accessing the protections and assistance they deserve. That is why as my Administration has worked to bolster the rights, services, and support for all victims of crime, we have particularly focused on at-risk communities. I was proud to sign the reauthorization of the Violence Against Women Act, which included additional provisions to help immigrants and Native American communities, as well as new protections to ensure victims do not face discrimination based on sexual orientation or gender identity when they seek assistance. And we are investing in training programs for law enforcement and other professionals who assist underserved individuals.

My Administration is committed to standing up for the rights of those affected by all types of crime, and we are taking action to stop crime before it happens. Last year, I established the White House Task Force to Protect Students from Sexual Assault to improve efforts to prevent and effectively respond to sexual assault on our Nation's campuses. The Federal Government is developing new tools to assist victims of economic and financial crimes. We are also working to implement the recommendations from my Task Force on 21st Century Policing, which generated a series of practical, commonsense proposals to help reduce crime while building public trust. And we continue our work to reduce other violent and heinous crimes—such as human trafficking, elder abuse, and violence against persons with disabilities—and to improve access to necessary services for the victims of these crimes.

When communities come together to declare that crime is not tolerated, to empower victims, and to work toward a brighter tomorrow, it gives new life to our democracy and our system of justice. During National Crime Victims' Rights Week, we lift up service providers, criminal justice professionals, and all who are committed to improving efforts to prevent and respond to the effects of crime. Together, let us rededicate ourselves to the important work of supporting victims' rights and continue our efforts to build a safer, stronger, more just future for all Americans.

NOW, THEREFORE, I, BARACK OBAMA, President of the United States of America, by virtue of the authority vested in me by the Constitution and the laws of the United States, do hereby proclaim April 19 through April 25, 2015, as National Crime Victims' Rights Week. I call upon all Americans to observe this week by participating in events that raise awareness of victims' rights and services, and by volunteering to serve victims in their time of need.

IN WITNESS WHEREOF, I have hereunto set my hand this seventeenth day of April, in the year of our Lord two thousand fifteen, and of the Independence of the United States of America the two hundred and thirty-ninth.

[FR Doc. 2015-09558

Filed 4-22-15; 08:45 am]

Billing code 3295-F5